DEPARTMENT OF AGRICULTURE

Rural Telephone Bank, USDA

Staff Briefing for the Board of Directors

TIME AND DATE: 2 p.m., Thursday, August 16, 2001.

PLACE: Conference 0204, South Building, Department of Agriculture, 1400 Independence Avenue, SW., Washington, DC.

STATUS: Open.

MATTERS TO BE DISCUSSED:

1. Contract for business advisor to the Privatization Committee.

2. Retirement of Class A stock in FY 2001.

3. Annual Class C stock dividend rate.

4. Amendment to bylaw section 2.2(c).

5. Allowance for loan losses reserve.

6. Current telecommunications industry issues.

7. Administrative issues.

ACTION: Stockholders' Meeting.

TIME AND DATE: 9 a.m., Friday, August 17, 2001.

PLACE: Conference Room 104-A, Jamie L. Whitten Building, Department of Agriculture, 12th and Jefferson Drive, SW., Washington, DC.

STATUS: Open.

MATTERS TO BE CONSIDERED: The following matters have been placed on the agenda for the stockholders' meeting.

1. Call to order.

2. Establishment of a quorum.

3. Action on Minutes of the August 6, 1999, stockholders' meeting.

4. Secretary's report on loans approved.

5. Treasurer's report.

6. Privatization Committee report.

7. New business.

8. Adjournment.

ACTION: Board of Directors Meeting.

TIME AND DATE: Following the stockholders' meeting, Friday, August 17, 2001.

PLACE: Conference Room 104-A, Jamie L. Whitten Building, Department of Agriculture, 12th and Jefferson Drive, SW., Washington, DC.

STATUS: Open.

MATTERS TO BE CONSIDERED: The following matters have been placed on the agenda for the Board of Directors meeting:

1. Call to order.

2. Action on Minutes of the May 11, 2001, board meeting.

3. Report on the allowance for loan losses reserve.

4. Consideration of resolution to retire Class A stock in FY 2001.

5. Consideration of resolution to set annual Class C stock dividend rate.

6. Action on amendment to bylaw section 2.2(c).

7. Ajournment.

CONTACT PERSON FOR MORE INFORMATION: Roberta D. Purcell, Assistant Governor, Rural Telephone Bank, (202) 720-9554.

Dated: August 2, 2001.
Blaine D. Stockton,
Acting Governor, Rural Telephone Bank.

[FR Doc. 01-19994 Filed 8-6-01; 12:46 pm]

BILLING CODE 3410-15-P